DEPARTMENT OF THE INTERIOR

Bureau of Land Management

[ID 320 7122 EO 7979]

Notice of Extension for the Final Environmental Impact Statement (FEIS) for the Smoky Canyon Mine, Panels F and G

AGENCY: DOI Bureau of Land Management (BLM), Lead Agency; USDA Forest Service (FS), Co-lead Agency; and the State of Idaho, Idaho Department of Environmental Quality, Cooperating Agency.

ACTION: Notice of Extension for the Final Environmental Impact Statement for the Smoky Canyon Mine, Panels F and G Mine Expansion Project.

SUMMARY: The Bureau of Land Management (BLM) announces an extenion of the mandatory 30-day waiting period prior to releasing the Record of Decision (ROD) for the Smoky Canyon Mine, Panels F and G Mine Expansion Project. The original availability notice, issued October 26, 2007, provided for a 30-day waiting period prior to the release of the ROD. The BLM is extending this period until December 26, 2007.

DATES: The FEIS is now available for public review. The BLM Record of Decision will be released no sooner than December 26, 2007—60 days after publication of the original Notice of Availability of the FEIS in the Federal Register by the Environmental Protection Agency.

ADDRESSES: The FEIS will be available in limited quantities at the Bureau of Land Management, Pocatello Field Office, 4350 Cliffs Drive, Pocatello, Idaho 83204, phone (208) 478-6340 and the Caribou-Targhee National Forest, Soda Springs Ranger District, 410 E. Hooper Avenue, Soda Springs, Idaho 83276, phone (208) 547-4356. It will also be available on the BLM Web site at: http://www.blm.gov/id/st/en/fo/pocatello/programs/planning/smoky_canyon_mine.html and the Caribou-Targhee National Forest Web site at: http://www.fs.fed.us/r4/caribou-targhee/phosphate.

FOR FURTHER INFORMATION CONTACT: Bill Stout, Bureau of Land Management, phone (208) 478-6340; or Jeff Jones, Caribou-Targhee National Forest, phone (208) 236-7572.

SUPPLEMENTARY INFORMATION: The original Notice of Availability was published on October 26, 2007, and initiated a mandatory 30-day waiting period prior to releasing the ROD. Since this publication the BLM has received a number of requests from the public to extend the required 30-day waiting period. The FEIS, in exploring the effects of the mining operation, is lengthy and complex. Additional time will allow for increased public awareness of the proposed decision. To honor these requests the BLM has decided to extend the waiting period for an additional 30 days, to end on December 26, 2007.

Dated: November 2, 2007.
Joe Kraayenbrink,
District Manager, Idaho Falls District, Bureau of Land Management.

[FR Doc. 07-5684 Filed 11-15-07; 8:45 am]

BILLING CODE 4310-GG-M